DEPARTMENT OF ENERGY

Federal Energy Regulatory Commission

Combined Notice of Filings #1

October 4, 2007.

Take notice that the Commission received the following electric corporate filings:

Docket Numbers: EC08-1-000.

Applicants: Milliken & Company, Lockhart Power Company.

Description: Milliken & Co and Lockhart Power Co submit a joint application for approval of corporate reorganization.

Filed Date: 10/01/2007.

Accession Number: 20071003-0017.

Comment Date: 5 p.m. Eastern Time on Monday, October 22, 2007.

Docket Numbers: EC08-2-000.

Applicants: Babcock & Brown Renewable Holdings Inc., Cedar Creek Wind Holdings LLC, Cedar Creek Wind Energy, LLC, CCWE Holdings LLC, Babcock & Brown Cedar Creek LLC, BP Wind Energy North America Inc.

Description: Babcock & Brown Renewable Holdings Inc. et al. submit an application for order authorizing Transfer of Control of Jurisdictional Facilities under section 203 of the Federal Power Act.

Filed Date: 10/01/2007.

Accession Number: 20071003-0055.

Comment Date: 5 p.m. Eastern Time on Monday, October 22, 2007.

Take notice that the Commission received the following electric rate filings:

Docket Numbers: ER05-1410-006.

Applicants: PJM Interconnection, LLC.

Description: PJM Interconnection, LLC submits revisions to the PJM Open Access Transmission Tariff to incorporate certain changes mandated by the December 22 Order.

Filed Date: 09/24/2007.

Accession Number: 20070926-0113.

Comment Date: 5 p.m. Eastern Time on Monday, October 15, 2007.

Docket Numbers: ER07-1014-001.

Applicants: NSTAR Electric Company.

Description: NSTAR Electric Co submits an update to its annual informational filing.

Filed Date: 10/01/2007.

Accession Number: 20071003-0023.

Comment Date: 5 p.m. Eastern Time on Monday, October 22, 2007.

Docket Numbers: ER07-1069-002.

Applicants: American Electric Power Service Corporation.

Description: American Electric Power Service Corp on behalf of Public Service Company of Oklahoma et al submits compliance filing providing for changes to its proposed formula rate.

Filed Date: 10/01/2007.

Accession Number: 20071003-0142.

Comment Date: 5 p.m. Eastern Time on Monday, October 22, 2007.

Docket Numbers: ER07-1102-002.

Applicants: PJM Interconnection, L.L.C.

Description: PJM Interconnection, LLC submits a revised Network Integration Transmission Service Agreement with the City of Batavia.

Filed Date: 09/28/2007.

Accession Number: 20071003-0021.

Comment Date: 5 p.m. Eastern Time on Friday, October 19, 2007.

Docket Numbers: ER07-1232-001.

Applicants: UniSource Energy Development Company.

Description: UniSource Energy Development Co submits Exhibit A as a supplement to its 8/1/07 filing of a Market-Based Rate Tariff.

Filed Date: 09/07/2007.

Accession Number: 20070911-0063.

Comment Date: 5 p.m. Eastern Time on Monday, October 15, 2007.

Docket Numbers: ER07-1263-002.

Applicants: High Sierra Power Marketing, LLC.

Description: High Sierra Power Marketing LLC submits Substitute Original Sheet 1, 2, 3 to its FERC Electric Tariff, Original Volume 1.

Filed Date: 10/02/2007.

Accession Number: 20071004-0133.

Comment Date: 5 p.m. Eastern Time on Thursday, October 11, 2007.

Docket Numbers: ER07-1264-002.

Applicants: Sierra Power Asset Marketing, LLC.

Description: Sierra Power Asset Marketing LLC submits Substitute Original Sheet 1, 2, and 3 to its FERC Electric Tariff, Original Volume 1.

Filed Date: 10/02/2007.

Accession Number: 20071004-0134.

Comment Date: 5 p.m. Eastern Time on Thursday, October 11, 2007.

Docket Numbers: ER07-1278-001.

Applicants: Alpha Energy Master, Ltd.

Description: Alpha Energy Master Ltd submits an Amended Petition for Acceptance of Initial Tariff, Waiver and Blanket Authority and requests acceptance of FERC Electric Tariff, Original Volume 1.

Filed Date: 10/02/2007.

Accession Number: 20071004-0135.

Comment Date: 5 p.m. Eastern Time on Tuesday, October 23, 2007.

Docket Numbers: ER07-1306-002.

Applicants: NedPower Mount Storm, L.L.C.

Description: MedPower Mount Storm, LLC submits a supplemental amendment to its application for order accepting market-based rate tariff.

Filed Date: 10/02/2007.

Accession Number: 20071003-0029.

Comment Date: 5 p.m. Eastern Time on Tuesday, October 23, 2007.

Docket Numbers: ER07-1341-001.

Applicants: York Generation Company LLC.

Description: York Generation Co, LLC submits revised tariff sheets to its notice of succession filed on 9/4/07.

Filed Date: 10/01/2007.

Accession Number: 20071003-0024.

Comment Date: 5 p.m. Eastern Time on Monday, October 22, 2007.

Docket Numbers: ER07-1409-000.

Applicants: Sierra Pacific Power Company, Nevada Power Company.

Description: Sierra Pacific submits a request for shortened comment period for Nevada Power Co and Sierra Pacific Power Co.

Filed Date: 09/28/2007.

Accession Number: 20071003-0018.

Comment Date: 5 p.m. Eastern Time on Friday, October 19, 2007.

Docket Numbers: ER08-12-000.

Applicants: Central Vermont Public Service Corporation.

Description: The Vermont Joint Owner's request for limited waiver of the date for submission of composite offer forms under Market Rule 1 re Central Vermont Public Service Corporation et al.

Filed Date: 10/02/2007.

Accession Number: 20071004-0136.

Comment Date: 5 p.m. Eastern Time on Tuesday, October 23, 2007.

Docket Numbers: ER08-13-000.

Applicants: MXEnergy Electric (PA).

Description: MXEnergy Electric submits a notice of cancellation of its Rate Schedule FERC 2, First Revised Sheet 1-5.

Filed Date: 10/02/2007.

Accession Number: 20071004-0137.

Comment Date: 5 p.m. Eastern Time on Tuesday, October 23, 2007.

Docket Numbers: ER08-14-000.

Applicants: Alpha Domestic Power Trading, L.L.C.

Description: Alpha Domestic Power Trading, LLC submits FERC Electric Tariff, Original Volume 1.

Filed Date: 10/02/2007.

Accession Number: 20071004-0138.

Comment Date: 5 p.m. Eastern Time on Tuesday, October 23, 2007.

Docket Numbers: ER08-15-000.

Applicants: Midwest ISO Transmission Owners.

Description: Midwest ISO Transmission Owners submits a new Schedule 2-A concerning compensation of generators for provision of Reactive Supply & Voltage Control from Generation Sources Service.

Filed Date: 10/02/2007.

Accession Number: 20071004-0139.

Comment Date: 5 p.m. Eastern Time on Tuesday, October 23, 2007.

Docket Numbers: ER08-16-000.

Applicants: Westar Energy, Inc.

Description: Kansas Gas and Electric Co and Westar Energy, Inc submits a Notice of Cancellation of an Agreement for Wholesale Electric Service with City of Haven, Kansas.

Filed Date: 10/02/2007.

Accession Number: 20071004-0140.

Comment Date: 5 p.m. Eastern Time on Tuesday, October 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Nathaniel J. Davis, Sr.,
Acting Deputy Director.

[FR Doc. E7-20026 Filed 10-10-07; 8:45 am]

BILLING CODE 6717-01-P